NATIONAL SCIENCE FOUNDATION

Sunshine Act Meeting

AGENCY HOLDING MEETING: National Science Foundation, National Science Board.

DATE AND TIME: November 14, 2001: 12:00 Noon.-12:30 p.m.—Closed Session; November 15, 2001: 12:30 p.m.-1:00 p.m.—Closed Session; November 15, 2001: 1:00 p.m.-3:30 p.m.—Closed Session.

PLACE: The National Science Foundation, Room 1235, 4201 Wilson Boulevard, Arlington, VA 22230, www.nsf.gov/nsb.

STATUS: Part of this meeting will be closed to the public. Part of this meeting will be open to the public.

MATTERS TO BE CONSIDERED:

Wednesday, November 14, 2001

Closed Session (12:00 Noon-12:30 p.m.)

—Closed Session Minutes, October, 2001

—NSB Public Service Award

Thursday, November 15, 2001

Closed Session (12:30 p.m.-1:00 p.m.)

—Awards and Agreements

—NSF Budget, FY 2002, 2003

Open Session (1:00 p.m.-3:30 p.m.)

—Open Session Minutes, October, 2001

—Closed Session Items for March, 2001

—Chairman's Report

—Director's Report

—NSB Guidelines on MRE Priorities

—International Report—Approval

—Committee Reports

—Other Business

Marta Cehelsky,
Executive Officer.

[FR Doc. 01-28077 Filed 11-5-01; 11:54 am]

BILLING CODE 7555-01-M